SECURITIES AND EXCHANGE COMMISSION

[Release No. 34-59171; File No.

SR-ISE-2008-98]

Self-Regulatory Organizations; International Securities Exchange, LLC; Notice of Filing and Immediate Effectiveness of Proposed Rule Change to Fee Changes

Correction

In notice document E8-31351 beginning on page 482 in the issue of Tuesday, January 6, 2009 make the following corrections:

1. On page 482, the department docket number is corrected to read as set forth above.

2. On page 483, in the second column, in the last line of the last paragraph, “January 26, 2009” should read “January 27, 2009”.

[FR Doc. Z8-31351 Filed 1-28-09; 8:45 am]

BILLING CODE 1505-01-D